DEPARTMENT OF ENERGY

Federal Energy Regulatory Commission

Combined Notice of Filings #1

Take notice that the Commission received the following electric corporate filings:

Docket Numbers: EC18-92-000.

Applicants: Mesquite Power, LLC.

Description: Application for Authorization for Disposition of Jurisdictional Facilities and Requests for Expedited Action and Confidential Treatment of Mesquite Power, LLC.

Filed Date: 5/16/18.

Accession Number: 20180516-5140.

Comments Due: 5 p.m. ET 6/6/18.

Take notice that the Commission received the following electric rate filings:

Docket Numbers: ER10-2895-017; ER10-2917-017; ER10-2918-018 ER10-2920-017; ER10-2921-017; ER10-2922-017 ER10-2966-017; ER10-3167-009; ER11-2292-018 ER11-2293-018; ER11-2294-016; ER11-2383-012 ER11-3941-015; ER11-3942-017; ER12-2447-016 ER13-1613-010; ER13-203-009; ER13-2143-010 ER14-1964-008; ER16-287-003; ER17-482-002.

Applicants: Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US, LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation.

Description: Second Supplement to June 30, 2017 Updated Market Power Analysis for the Northeast Region of the Brookfield Companies.

Filed Date: 5/16/18.

Accession Number: 20180516-5145.

Comments Due: 5 p.m. ET 6/6/18.

Docket Numbers: ER17-603-001.

Applicants: Bear Swamp Power Company LLC.

Description: Supplement to February 20, 2018 Compliance Filing of Updated Market Power Analysis of Bear Swamp Power Company LLC.

Filed Date: 5/16/18.

Accession Number: 20180516-5131.

Comments Due: 5 p.m. ET 6/6/18.

Docket Numbers: ER18-1648-000.

Applicants: Midcontinent Independent System Operator, Inc.

Description: § 205(d) Rate Filing: 2018-05-16_Filing to establish Time Limits for Disputes and Resettlements to be effective 8/1/2018.

Filed Date: 5/16/18.

Accession Number: 20180516-5119.

Comments Due: 5 p.m. ET 6/6/18.

Docket Numbers: ER18-1649-000.

Applicants: Northern States Power Company, a Minnesota corporation.

Description: § 205(d) Rate Filing: NSPM-SIOUX-I-I-Agrmt-484-0.0.0 to be effective 1/1/2018.

Filed Date: 5/16/18.

Accession Number: 20180516-5121.

Comments Due: 5 p.m. ET 6/6/18.

Docket Numbers: ER18-1650-000.

Applicants: WSPP Inc.

Description: § 205(d) Rate Filing: List of Members Update 2018 to be effective 3/26/2018.

Filed Date: 5/17/18.

Accession Number: 20180517-5003.

Comments Due: 5 p.m. ET 6/7/18.

Docket Numbers: ER18-1651-000.

Applicants: Solano 3 Wind LLC.

Description: Tariff Cancellation: Notice of Cancellation to be effective 5/17/2018.

Filed Date: 5/17/18.

Accession Number: 20180517-5004.

Comments Due: 5 p.m. ET 6/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2018.
Nathaniel J. Davis, Sr.,
Deputy Secretary.

[FR Doc. 2018-10996 Filed 5-22-18; 8:45 am]

BILLING CODE 6717-01-P